DEPARTMENT OF HEALTH AND HUMAN SERVICES

Centers for Medicare & Medicaid Services

[Document Identifier: CMS-10525]

Agency Information Collection Activities: Proposed Collection; Comment Request

AGENCY: Centers for Medicare & Medicaid Services, HHS.

ACTION: Notice; partial withdrawal.

SUMMARY: On Tuesday, March 24, 2020, the Centers for Medicare & Medicaid Services (CMS) published a notice document entitled, “Agency Information Collection Activities: Proposed Collection; Comment Request”. That notice invited public comments on five separate information collection requests, under Document Identifiers: CMS-10468, CMS-10418, CMS-10488, CMS-R-290, and CMS-10525. Through the publication of this document, we are withdrawing the portion of the notice requesting public comment on the information collection request titled, “PACE Quality Data Monitoring and Reporting.” Form number: CMS-10525 (OMB control number: 0938-1264).

DATES: The original comment period for the document that published on March 24, 2020, remains in effect and ends May 26, 2020.

SUPPLEMENTARY INFORMATION: In FR document, 2020-06077, published on March 24, 2020 (85 FR 16631), we are withdrawing item 6 “PACE Quality Data Monitoring and Reporting” which begins on page 16633.

Dated: April 9, 2020.
William N. Parham, III,
Director, Paperwork Reduction Staff, Office of Strategic Operations and Regulatory Affairs.

[FR Doc. 2020-07886 Filed 4-14-20; 8:45 am]

BILLING CODE 4120-01-P